FEDERAL RETIREMENT THRIFT INVESTMENT BOARD

Sunshine Act; Notice of Meeting

TIME AND DATE: 1 p.m. (Eastern Time) November 30, 2011.

PLACE: 4th Floor Conference Room, 1250 H Street, NW., Washington, DC 20005.

STATUS: Parts will be open to the public and parts will be closed to the public.

MATTERS TO BE CONSIDERED:

Parts Open to the Public

1. Approval of the minutes of the October 17, 2011 Board Member Meeting.

2. Recognition of Outstanding Service by Board Member Sanchez.

3. Thrift Savings Plan Activity Report by the Executive Director:

a. Monthly Participant Activity Report.

b. Monthly Investment Performance Review.

c. Legislative Report.

4. 2012 Board Meeting Calendar.

Parts Closed to the Public

5. Procurement.

CONTACT PERSON FOR MORE INFORMATION: Thomas J. Trabucco, Director, Office of External Affairs, (202) 942-1640.

Dated: November 15, 2011.
Thomas K. Emswiler,
Secretary, Federal Retirement Thrift Investment Board.

[FR Doc. 2011-29831 Filed 11-15-11; 4:15 pm]

BILLING CODE 6760-01-P